DEPARTMENT OF STATE

[Public Notice 8184]

Bureau of International Security and Nonproliferation Imposition of Nonproliferation Measures Against Foreign Persons, Including a Ban on U.S. Government Procurement

AGENCY: Bureau of International Security and Nonproliferation, Department of State.

ACTION: Notice.

SUMMARY: A determination has been made that a number of foreign persons have engaged in activities that warrant the imposition of measures pursuant to Section 3 of the Iran, North Korea, and Syria Nonproliferation Act. The Act provides for penalties on entities and individuals for the transfer to or acquisition from Iran since January 1, 1999; the transfer to or acquisition from Syria since January 1, 2005; or the transfer to or acquisition from North Korea since January 1, 2006, of goods, services, or technology controlled under multilateral control lists (Missile Technology Control Regime, Australia Group, Chemical Weapons Convention, Nuclear Suppliers Group, Wassenaar Arrangement) or otherwise having the potential to make a material contribution to the development of weapons of mass destruction (WMD) or cruise or ballistic missile sytems. The latter category includes (a) items of the same kind as those on multilateral lists but falling below the control list parameters when it is determined that such items have the potential of making a material contribution to WMD or cruise or ballistic missile systems, (b) items on U.S. national control lists for WMD/missile reasons that are not on multilateral lists, and (c) other items with the potential of making such a material contribution when added through case-by-case decisions.

DATES: Effective Date: February 5, 2013.

FOR FURTHER INFORMATION CONTACT: On general issues: Pam Durham, Office of Missile, Biological, and Chemical Nonproliferation, Bureau of International Security and Nonproliferation, Department of State, Telephone (202) 647-4930. For U.S. Government procurement ban issues: Eric Moore, Office of the Procurement Executive, Department of State, Telephone: (703) 875-4079.

SUPPLEMENTARY INFORMATION: On December 20, 2012, the U.S. Government determined that the measures authorized in Section 3 of the Iran, North Korea, and Syria Nonproliferation Act (Pub. L. 109-353) shall apply to the following foreign persons identified in the report submitted pursuant to Section 2(a) of the Act:

TM Services Limited (TMS) (Belarus) and any successor, sub-unit, or subsidiary thereof;

Scientific and Industrial Republic Unitary Enterprise (Belarus) [also known as DB Radar] and any successor, sub-unit, or subsidiary thereof;

BST Technology and Trade Company (China) and any successor, sub-unit, or subsidiary thereof;

China Precision Machinery Import and Export Corporation (CPMIEC) (China) and any successor, sub-unit, or subsidiary thereof;

Dalian Sunny Industries (China) [also known as: LIMMT] and any successor, sub-unit, or subsidiary thereof;

Karl Lee (China) [also known as: Li Fangwei];

Poly Technologies Incorporated (China) and any successor, sub-unit, or subsidiary thereof;

Iran Electronics Industries (IEI) (Iran) and any successor, sub-unit, or subsidiary thereof;

Marine Industries Organization (MIO) (Iran) and any successor, sub-unit, or subsidiary thereof;

Milad Jafari (Iran);

Al-Zargaa Engineering Complex (ZEC) (Sudan) and any successor, sub-unit, or subsidiary thereof;

SMT Engineering (Sudan) and any successor, sub-unit, or subsidiary thereof;

Army Supply Bureau (ASB) (Syria) and any successor, sub-unit, or subsidiary thereof; and

Venezuelan Military Industry Company (CAVIM) (Venezuela) and any successor, sub-unit, or subsidiary thereof.

Accordingly, pursuant to Section 3 of the Act, the following measures are imposed on these persons:

1. No department or agency of the United States Government may procure or enter into any contract for the procurement of any goods, technology, or services from these foreign persons, except to the extent that the Secretary of State otherwise may determine;

2. No department or agency of the United States Government may provide any assistance to these foreign persons, and these persons shall not be eligible to participate in any assistance program of the United States Government, except to the extent that the Secretary of State otherwise may determine;

3. No United States Government sales to these foreign persons of any item on the United States Munitions List are permitted, and all sales to these persons of any defense articles, defense services, or design and construction services under the Arms Export Control Act are terminated; and

4. No new individual licenses shall be granted for the transfer to these foreign persons of items the export of which is controlled under the Export Administration Act of 1979 or the Export Administration Regulations, and any existing such licenses are suspended.

These measures shall be implemented by the responsible departments and agencies of the United States Government and will remain in place for two years from the effective date, except to the extent that the Secretary of State may subsequently determine otherwise.

Dated: February 5, 2013.
Simon Limage,
Acting Assistant Secretary of State for International, Security and Nonproliferation.

[FR Doc. 2013-03030 Filed 2-8-13; 8:45 am]

BILLING CODE 4710-25-P